CORPORATION FOR NATIONAL AND COMMUNITY SERVICE

Agency Information Collection Activities; Submission to the Office of Management and Budget for Review and Approval; Comment Request; Application Package for the AmeriCorps National Civlian Community Corps (NCCC) Project Sponsor Application; Proposed Information Collection; Comment Request

AGENCY: Corporation for National and Community Service.

ACTION: Notice.

SUMMARY: The Corporation for National and Community Service (CNCS) has submitted a public information collection request (ICR) entitled the AmeriCorps National Civilian Community Corps (NCCC) Service Project Application for review and approval in accordance with the Paperwork Reduction Act.

DATES: Comments may be submitted, identified by the title of the information collection activity, by June 28, 2019.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling the Corporation for National and Community Service, Jacob Sgambati, at 202-606-6839 or by email to jsgambati@cns.gov. Individuals who use a telecommunications device for the deaf (TTY-TDD) may use our web chat for alternative communication: www.NationalService.gov/contact-us.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 18, 2019 at 84 FR 9767. This comment period ended May 17, 2019. No public comments were received from this Notice.

Title of Collection: AmeriCorps NCCC Service Project Application.

OMB Control Number: 3045-0010. Type of Review: Renewal.

Respondents/Affected Public: Current/prospective AmeriCorps NCCC Project Sponsors.

Total Estimated Number of Annual Responses: 1,800.

Total Estimated Number of Annual Burden Hours: 17,100 hours.

Abstract: The AmeriCorps NCCC Service Project Application is completed by organizations interested in sponsoring an AmeriCorps NCCC team. Each year, AmeriCorps NCCC engages teams of members in projects in communities across the United States. Service projects, which typically last from six to eight weeks, address critical needs in natural and other disasters, infrastructure improvement, environmental stewardship and conservation, energy conservation, and urban and rural development. Members construct and rehabilitate low-income housing, respond to natural disasters, clean up streams, help communities develop emergency plans, and address other local needs. CNCS seeks to renew the current information collection. The revisions are intended to improve the ability to assess prospective AmeriCorps NCCC sponsors. The information collection will otherwise be used in the same manner as the existing application. CNCS also seeks to continue using the current application until the revised application is approved by OMB. The current application is due to expire on July 31, 2019.

Dated: May 21, 2019.
Jacob Sgambati,
Acting Deputy Director.

[FR Doc. 2019-11120 Filed 5-28-19; 8:45 am]

BILLING CODE 6050-28-P